OFFICE OF SCIENCE AND TECHNOLOGY POLICY

Impact of the Select Agent and Toxin Regulations; Correction

AGENCY: Office of Science and Technology Policy.

ACTION: Notice; correction.

SUMMARY: The Office of Science and Technology Policy published a document in the Federal Register Notice, 2015-05906, on March 16, 2015, pages 13639-13641, concerning a Request for Public Comment on the Impact of the Select Agent Regulations. The document contains incorrect dates as we wish to extend the comment period to April 10, 2015, 5 p.m. ET.

FOR FURTHER INFORMATION CONTACT: May Chu at (202)-456-6029.

Corrections

In the Federal Register of March 16, 2015, in the FR Doc. 2015-05906,

(1) On page 13640 in the SUMMARY section (which starts on page 13639) in the first column, first line, correct the date to read:

5 p.m. ET on April 10, 2015 to be considered.

(2) On page 13640, first column, correct the DATES caption to read:

DATES: Documents must be received by 5:00 p.m. ET on April 10, 2015 to be considered.

Dated: March 30, 2015.
Ted Wackler,
Deputy Chief of Staff and Assistant Director.

[FR Doc. 2015-07649 Filed 4-2-15; 8:45 am]

BILLING CODE 3170-F5-P